DEPARTMENT OF HEALTH AND HUMAN SERVICES

Health Resources and Services Administration

National Advisory Council on Nurse Education and Practice; Notice of Meeting

In accordance with section 10(a)(2) of the Federal Advisory Committee Act (Pub. L. 92-463), notice is hereby given of the following meeting:

Name: National Advisory Council on Nurse Education and Practice (NACNEP).

Dates and Times: November 19, 2009, 8:30 a.m.-4:30 p.m. November 20, 2009, 8:30 a.m.-4 p.m.

Place: Hilton Washington DC/Rockville Hotel & Executive Meeting Center, 1750 Rockville Pike, Rockville, MD 20852.

Status: The meeting will be open to the public.

Agenda: Agency and Bureau administrative updates will be provided.

Purpose: The purpose of this meeting is to address issues relating to the role of nursing in primary care: implications for workforce. The objectives of the meeting are: (1) Delineate the variety of roles nurses play in primary care including health promotion, screening, public education, illness prevention primary care and management of stable chronic conditions when an expanded, comprehensive definition is used; (2) review and evaluate the data related to education preparation and supply of primary care nurses and advanced practice registered nurses; (3) describe factors that facilitate and sustain primary care practice by qualified, competent advanced practice registered nurses; (4) identify the financial and regulatory barriers to effective, accessible primary care delivered by nurses and recommended strategies for resolution; and (5) review and recommend community-based, nurse-directed models for primary care delivery that are cost effective and produce quality outcomes. Members from professional nursing, public and private organizations will present their initiatives on addressing the role of nursing in primary care. This meeting will form the basis for NACNEP's mandated Tenth Annual Report.

For Further Information Contact: Anyone interested in obtaining a roster of members, minutes of the meeting, or other relevant information can contact Lakisha Smith, Executive Secretary, National Advisory Council on Nurse Education and Practice, Parklawn Building, Room 8C-26, 5600 Fishers Lane, Rockville, Maryland 20857, telephone (301) 443-5688. Information can also be found at the following Web site: http://bhpr.hrsa.gov/nursing/nacnep.htm.

Dated: October 14, 2009.
Alexandra Huttinger,
Director, Division of Policy Review and Coordination.

[FR Doc. E9-25276 Filed 10-20-09; 8:45 am]

BILLING CODE 4165-15-P